EXECUTIVE OFFICE OF THE PRESIDENT

Office of National Drug Control Policy

Paperwork Reduction Act; Comment Request

AGENCY: Office of National Drug Control Policy.

ACTION: 60 day notice.

SUMMARY: The Office of National Drug Control Policy (ONDCP) provides this opportunity for public comment on three data collection projects proposed by the National Youth Anti-Drug Media Campaign. The proposed projects are similar to existing projects but stem from the hiring of a new advertising contractor. We propose the following: (1) Qualitative testing of creative concepts; (2) advertising testing before inclusion into the media plan; and, (3) a tracking study to measure advertising effectiveness. Comments must be received within 60 days of this publication.

Additional Information: Request additional information from Kendall Oliphant, (202) 395-6168, or fax the request to (202) 395-0858.

Dated: June 16, 2005.
Daniel R. Petersen,
Assistant General Counsel.

[FR Doc. 05-12217 Filed 6-20-05; 8:45 am]

BILLING CODE 3180-02-P